DEPARTMENT OF STATE

[Public Notice: 11502]

60-Day Notice of Proposed Information Collection: Congress-Bundestag Youth Exchange (CBYX) Evaluation

ACTION: Notice of request for public comment.

SUMMARY: The Department of State is seeking Office of Management and Budget (OMB) approval for the information collection described below. In accordance with the Paperwork Reduction Act of 1995, we are requesting comments on this collection from all interested individuals and organizations. The purpose of this notice is to allow 60 days for public comment preceding submission of the collection to OMB.

DATES: The Department will accept comments from the public up to October 18, 2021.

ADDRESSES: You may submit comments by the following method:

• Web: Persons with access to the internet may comment on this notice by going to www.Regulations.gov. You can search for the document by entering “Docket Number: DOS-2021-0025” in the Search field. Then click the “Comment Now” button and complete the comment form.

You must include the DS form number (if applicable), information collection title, and the OMB control number in any correspondence.

FOR FURTHER INFORMATION CONTACT: Direct requests for additional information regarding the collection listed in this notice, including requests for copies of the proposed collection instrument and supporting documents, may be sent to Natalie Donahue, Chief of Evaluation, Bureau of Educational and Cultural Affairs, 2200 C Street NW, Washington, DC 20037 who may be reached at (202) 632-6193 or ecaevaluation@state.gov.

SUPPLEMENTARY INFORMATION:

• Title of Information Collection: CBYX Evaluation.

• OMB Control Number: None.

• Type of Request: New collection.

• Originating Office: Bureau of Educational and Cultural Affairs (ECA).

• Form Number: No form.

• Respondents: American CBYX program alumni and American community members (host families, host schools, family and friends of alumni, community service hosts, host institution employee).

• Estimated Number of Alumni Survey Respondents: 8,400.

• Estimated Number of Alumni Survey Responses: 8,400.

• Average Time per Alumni Survey: 15 minutes.

• Total Estimated Alumni Survey Burden Time: 2,100 hours.

• Estimated Number of Community Member Survey Respondents: 840.

• Estimated Number of Community Member Survey Responses: 840.

• Average Time per Community Member Survey: 15 minutes.

• Total Estimated Community Member Survey Burden Time: 210 hours.

• Estimated Number of Alumni In-depth Interview Respondents: 44.

• Average Time per Alumni In-depth Interview: 60 minutes.

• Total Estimated Alumni Burden Time: 44 hours.

• Estimated Number of Community Member In-depth Interview Respondents: 36.

• Average Time per Community Member In-depth Interview: 60 minutes.

• Total Estimated Community Member Burden Time: 36 hours.

• Estimated Number of Alumni Focus Group Respondents: 96.

• Average Time per Alumni Focus Group: 60 minutes.

• Total Estimated Alumni Focus Group Burden Time: 96 hours.

• Estimated Number of Community Member Focus Group Respondents: 48.

• Average Time per Community Member Focus Group: 60 minutes.

• Total Estimated Alumni Focus Group Burden Time: 48 hours.

• Total Estimated Burden Time: 2,534 hours.

• Frequency: Once.

• Obligation to Respond: Voluntary.

We are soliciting public comments to permit the Department to:

• Evaluate whether the proposed information collection is necessary for the proper functions of the Department.

• Evaluate the accuracy of our estimate of time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of Proposed Collection

The Congress-Bundestag Youth Exchange (CBYX) program is managed by the Bureau of Educational and Cultural Affairs (ECA). The Congress-Bundestag Youth Exchange (CBYX) program was inaugurated in 1983 through a bilateral agreement between the U.S. Congress and the German Bundestag. The program supports the exchange of American and German young people to sustain and strengthen the American-German friendship. Currently, six U.S implementing partners are connected with German implementing partners to administer three components of the program: (1) Secondary School, (2) Vocational Studies, and (3) Young Professionals. Program activities in Germany for American participants are paid for and managed by the German government. Program activities for Germans that take place in the United States are paid for and managed by the U.S. government.

The purpose of this evaluation is to assess short- and long-term outcomes for American CBYX participants across the three components of the program, and the effect of the program on American communities which hosted German participants. The evaluation will provide evidence to ECA's CBYX Program Team, who will be the primary user of the evaluation results, to inform programmatic decision-making on the design and implementation of the CBYX program for future participants. In order to do so, ECA has contracted DCG Communications to conduct surveys, in-depth interviews, and focus groups with American alumni and with American community stakeholders.

Methodology

This evaluation will use a mixed methods design, integrating both quantitative and qualitative data collection and analyses. It will analyze the experiences of both American CBYX program alumni and community members using three principal methods: (1) An online survey, (2) in-depth interviews, and (3) focus groups. Due to ongoing COVID-19 restrictions and the geographic spread of potential respondents, all data collection will occur remotely (i.e., via email, over the phone, etc.).

The survey and the qualitative research will happen simultaneously. Therefore, the Evaluation Team will be able to review the quantitative results as they come in, allowing for the interviewer and moderator to understand any potential contradictions in the findings and explore the data from the quantitative results in following interviews and focus groups. In addition, the interviewer and Evaluation Firm will learn from, and build off of, the insights gained from the first interviews to be able to gain even greater understanding, detail and nuance from each subsequent interview.

This evaluation will draw from alumni from the inaugural program in 1983 through the 2019 cohorts, from a universe of approximately 14,000 American alumni, as well other key stakeholders. ECA has set an ambitious target of 60 percent response rate for the survey portion of the evaluation, or approximately 8,400 alumni respondents. ECA will also survey key stakeholders. Based on estimates of response rates from similar previous ECA evaluations, the evaluation will survey 840 community member respondents.

The qualitative portion of the evaluation will include 80 in-depth interviews (44 with alumni and 36 with community members), 18 focus groups (12 with alumni and 6 with community members). With up to eight participants per focus group, there will be roughly 144 focus group participants maximum in addition to the 80 interview participants, with a total of approximately 224 qualitative participants. Recruitment will ensure representation across cohort years as well as implementing partners and will attempt to have broad geographic coverage.

Nini J. Forino,
Acting Deputy Assistant Secretary for Policy, Bureau of Educational and Cultural Affairs, Department of State.

[FR Doc. 2021-17627 Filed 8-16-21; 8:45 am]

BILLING CODE 4710-05-P